DEPARTMENT OF AGRICULTURE

Food and Nutrition Service

Agency Information Collection Activities: Proposed Collection; Comments Request—Survey of SNAP and Work

AGENCY: Food and Nutrition Service (FNS), USDA.

ACTION: Notice.

SUMMARY: In accordance with the Paperwork Reduction Act of 1995, this notice invites the general public and other public agencies to comment on this proposed information collection for the Survey of Supplemental Nutrition Assistance Program (SNAP) and Work. This NEW information collection will provide the U.S. Department of Agriculture, Food and Nutrition Service (FNS) with information about the employment patterns and characteristics of nondisabled adult SNAP participants, and identify health, social, and personal factors that promote or inhibit employment among SNAP participants.

DATES: Written comments must be received on or before November 29, 2019.

ADDRESSES: Comments may be sent to: Michael Burke, Social Science Research Analyst, Food and Nutrition Service, USDA, 3101 Park Center Drive, Room 1014, Alexandria, VA 22302. Comments may also be submitted via fax to the attention of Michael Burke at (703) 305-4369 or via email to michael.burke@usda.gov. Comments will also be accepted through the Federal eRulemaking Portal. Go to http://www.regulations.gov and follow the online instructions for submitting comments electronically.

All written comments will be open for public inspection at the office of the Food and Nutrition Service during regular business hours (8:30 a.m. to 5:00 p.m. Monday through Friday) at 3101 Park Center Drive, Alexandria, Virginia 22302.

All responses to this notice will be summarized and included in the request for Office of Management and Budget approval. All comments will be a matter of public record.

FOR FURTHER INFORMATION CONTACT: Requests for additional information or copies of this information collected should be directed to Michael Burke by email at michael.burke@usda.gov or by phone at (703) 305-4369.

SUPPLEMENTARY INFORMATION: Comments are invited on the following topics: (1) Whether the proposed collection of information is necessary for the proper performance of the functions of the agency, including whether the information shall have practical utility; (2) the accuracy of the agency's estimate of the burden on the proposed collection of information, including the validity of the methodology and assumptions that were used; (3) ways to enhance the quality, utility, and clarity of the information collected; and (4) ways to minimize the burden of the collection of information on those who are to respond, including use of appropriate automated, electronic, mechanical, or other technological collection techniques or other forms of information technology (IT).

Title: Survey of SNAP and Work.

Form Number: Not applicable.

OMB Number: 0584-NEW.

Expiration Date: Not Yet Determined.

Type of Request: New information collection.

Abstract: SNAP is the largest of the nutrition assistance programs administered by the Food and Nutrition Service (FNS) of the U.S. Department of Agriculture. It is the primary policy mechanism to provide a nutrition safety net and reduce food insecurity among low-income Americans by increasing access to healthy foods. In Fiscal Year (FY) 2018, SNAP served 39.6 million people with an average monthly benefit of $126.96 per person.

About one-third of SNAP households have earnings from employment. However, FNS knows few details about current job characteristics and work histories of adults participating in SNAP. The Survey of SNAP and Work will provide FNS with a better understanding of current and past workforce participation characteristics among nondisabled adult SNAP participants. The survey of current SNAP participants ages 18 to 69 will provide information on employment status, length of workforce detachment, types of job held, education and training, and social, physical, and environmental barriers to work, with estimates at the national and state-levels. The six study objectives include:

• Produce descriptive statistics on sociodemographic and economic characteristics.

• Produce descriptive statistics on employment status and employment characteristics.

• Produce descriptive statistics on length of detachment from the workforce.

• Produce descriptive statistics on education and training.

• Produce descriptive statistics on health, social, and personal factors related to employment.

• Examine the individual associations between key characteristics and employment status adjusted for other relevant characteristics.

A two-tiered sample design that yields state level samples of non-disabled SNAP participants ages 18 through 69 will be used to address the six study objectives. SNAP participants will be selected using administrative data from State SNAP agencies. In the first stage, primary sampling units (PSUs) in each State and the District of Columbia (DC) will be randomly selected with probability proportional to the number of SNAP participants. At the second stage, nondisabled SNAP participants ages 18 to 69 in each PSU will be randomly sampled. State samples will be aggregated to obtain National-level estimates.

Affected Public: Respondent groups identified include: (1) Non-disabled individuals ages 18 through 69 that received SNAP benefits in a specific sampling month, and (2) 51 State SNAP agencies. SNAP participants include all SNAP participants living in SNAP households and eligible to receive SNAP benefits.

Estimated Number of Respondents: (88,434). The total estimated number of individuals/households (I/H) SNAP participation respondents initially contacted is 88,383 SNAP participants. Out of the initial number of I/H contacted 39,780 respondents will be surveyed. In addition, 51 State SNAP Agencies (including the District of Columbia) will be asked to provide caseload data only once to support development of the survey sampling frame. All 51 are expected to respond.

Estimated Number of Responses per Respondent: The estimated number of responses 3.8 per SNAP participant respondent. The survey will be administered only once. The estimated number of responses per state SNAP agency is six.

Estimated Total Annual Responses: The estimate total annual responses is 119,361, of which 70,707 are survey respondents, 48,603 are survey non-respondents, and 51 are state agency respondents.

Estimated Time per Response: Based on pretesting of the survey instrument, the estimated time of response for SNAP participants will vary from 12 minutes to 69 minutes, with an overall average of 33 minutes (0.55 hours). SNAP participants with multiple jobs over the reference period will require more time to complete the survey than participants with one job or no jobs. The estimated time of response for State SNAP agencies is 4.3 hours.

Estimated Total Annual Burden on Respondents: The total public reporting burden for this collection of information is estimated at 37,170 hours (annually). See Table 1 (Total Public Burden Hours) for estimated total annual burden for each type of respondent.

Estimated Annual Burden Hours: The estimated annual burden hours is 37,170.

Table A-2—Total Public Burden Hours
Type of respondents | Instruments and activities | Sample size | Number of respondents | Frequency of response | Total annual responses | Hours per response | Annual burden (hours) | Number of non-respondents | Frequency of response | Total annual responses | Hours per response | Annual burden (hours) | Grand total annual burden estimate (hours)
SNAP participant | Invitation letter | 88,383 | 70,707 | 1 | 70,707 | 0.0167 | 1,181 | 17,676 | 1 | 17,676 | 0.0167 | 295 | 1,476
| Survey brochure (to be sent with invitation letter) | 88,383 | 70,707 | 1 | 70,707 | 0.0833 | 5,890 | 17,676 | 1 | 17,676 | 0.0833 | 1,472 | 7,362
| Survey reminder postcard—1st | 64,874 | 58,387 | 1 | 58,387 | 0.0167 | 975 | 6,487 | 1 | 6,487 | 0.0167 | 108 | 1,083
| Survey reminder postcard—2nd | 65,169 | 63,103 | 1 | 63,103 | 0.0167 | 1,054 | 2,066 | 1 | 2,066 | 0.0167 | 35 | 1,088
| Guide for telephone call | 56,596 | 17,677 | 1 | 17,677 | 0.0500 | 884 | 38,919 | 1 | 38,919 | 0.0500 | 1,946 | 2,830
| Thank you letter early response | 9,945 | 9,945 | 1 | 9,945 | 0.0167 | 166 | 0 | 0 | 0 | 0.0167 | 0 | 166
| Thank you letter | 29,835 | 29,835 | 1 | 29,835 | 0.0167 | 498 | 0 | 0 | 0 | 0.0167 | 0 | 498
| Field locating letter | 13,258 | 8,618 | 1 | 8,618 | 0.0167 | 144 | 4,640 | 1 | 4,640 | 0.0167 | 77 | 221
| Sorry I missed you card | 6,894 | 5,170 | 1 | 5,170 | 0.0167 | 86 | 1,724 | 1 | 1,724 | 0.0167 | 29 | 115
| Guidelines for in-field recruitment | 4,653 | 4,375 | 1 | 4,375 | 0.0500 | 219 | 278 | 1 | 278 | 0.0500 | 14 | 233
| Participant survey | 88,383 | 39,780 | 1 | 39,780 | 0.5500 | 21,879 | 48,603 | 0 | 0 | 0.5500 | 0 | 21,879
| Total | 88,383 | 70,707 | 1 | 70,707 |  | 32,976 | 48,603 | 1 | 48,603 |  | 3,977 | 36,952
State SNAP Agency | FNS email to agency | 51 | 51 | 1 | 51 | 0.0167 | 1 | 0 | 0 | 0 | 0.0167 | 0 | 1
| Email request for call | 51 | 51 | 1 | 51 | 0.0167 | 1 | 0 | 0 | 0 | 0.0167 | 0 | 1
| Fact sheet | 51 | 51 | 1 | 51 | 0.0333 | 2 | 0 | 0 | 0 | 0.0333 | 0 | 2
| Call script | 51 | 51 | 1 | 51 | 0.1667 | 9 | 0 | 0 | 0 | 0.1667 | 0 | 9
| Email to request data | 51 | 51 | 1 | 51 | 0.0333 | 2 | 0 | 0 | 0 | 0.0333 | 0 | 2
| Preparations and sending data | 51 | 51 | 1 | 51 | 4.0000 | 204 | 0 | 0 | 0 | 4.0000 | 0 | 204
| Total | 51 | 51 | 1 | 51 |  | 219 | 0 | 0 | 0 |  | 0 | 219
COMBINED TOTAL | 88,434 |  | 70,758 | 1 | 70,758 |  | 33,193 | 48,603 | 1 | 48,603 |  | 3,977 | 37,170

Dated: September 16, 2019.
Pamilyn Miller,
Administrator, Food and Nutrition Service.

[FR Doc. 2019-21170 Filed 9-27-19; 8:45 am]

BILLING CODE 3410-30-P